DEPARTMENT OF ENERGY

Federal Energy Regulatory Commission

[Project Nos. 12495-000, 12619-000, 12621-000]

Cascade Creek LLC; Notice of Intent To File License Application, Filing of Pre-Application Document, and Approving Use of the Alternative Licensing Procedures

September 13, 2007.

a. Type of Filing: Notice of Intent to File License Application and Request to Use the Alternative Licensing Procedures.

b. Project Nos.: 12495, 12619, and 12621.

c. Dated Filed: August 3, 2007.

d. Submitted By: Cascade Creek LLC.

e. Name of Projects: Cascade Creek, Ruth Lake, and Scenery Lake Hydroelectric Projects.

f. Location: The Cascade Creek Project would be located on Swan Lake and Cascade Creek; the Ruth Lake Project would be located on Ruth Lake and Delta Creek; and Scenery Lake would be located on Scenery Lake and Scenery Creek. All three projects would be located in Petersburg-Wrangle Borough, Alaska, within the Tongass National Forest.

g. Filed Pursuant to: 18 CFR 5.3(b)(2) of the Commission's regulations

h. Applicant Contact: Mr. Steven C. Marmon, Cascade Creek, LLC, 3633 Alderwood Avenue, Bellingham, WA 98225; phone: (360) 738-9999.

i. FERC Contact: David Turner at (202) 502-6091; or e-mail at david.turner@ferc.gov.

j. Cascade Creek LLC filed its request to use the Alternative Licensing Procedures on August 3, 2007. Cascade Creek LLC provided public notice of its request on August 9, 2007. In a letter dated September 13, 2007, the Director of the Office of Energy Projects approved Cascade Creek LLC's request to use the Alternative Licensing Procedures.

k. Cascade Creek LLC filed a Pre-Application Document (PAD; including a proposed process plan and schedule) with the Commission, pursuant to 18 CFR 5.6 of the Commission's regulations.

l. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, or for TTY, (202) 502-8659. A copy is also available for inspection and reproduction at the address in paragraph h.

m. Register online at http://ferc.gov/esubscribenow.htm to be notified via e-mail of new filing and issuances related to this or other pending projects. For assistance, contact FERC Online Support.

Kimberly D. Bose,
Secretary.

[FR Doc. E7-18423 Filed 9-18-07; 8:45 am]

BILLING CODE 6717-01-P